DEPARTMENT OF HEALTH AND HUMAN SERVICES

Administration for Children and Families

Administration on Children, Youth and Families Announces the Award of a Single-Source Program Expansion Supplement Grant to the National Runaway Switchboard (NRS) in Chicago, IL

AGENCY: Family and Youth Services Bureau, ACYF, ACF, HHS.

ACTION: Notice of the Award of a Single-Source Program Expansion Supplement grant to the National Runaway Switchboard (NRS) in Chicago, IL, to support initiatives in the areas of quality assurance, comprehensive outreach and increased capacity through technology improvements.

STATUTORY AUTHORITY: Part C, Section 331, of the “Reconnecting Homeless Youth Act of 2008,” Public Law 110-378.

CFDA Number: 93.623.

SUMMARY: The Administration on Children, Youth and Families, Family and Youth Services Bureau (FYSB), announces the award of a single-source program expansion supplement grant of $311,997 to the National Runaway Switchboard (NRS) in Chicago, IL, for initiatives in the areas of quality assurance, comprehensive outreach and increased capacity through technology improvements. Through these initiatives, NRS will improve its outreach to youth through Web site enhancements such as, increased access to the “Live Chat” function; recruitment of additional Spanish-English bilingual volunteers; increased outreach and partnerships with local, regional and national organizations to enhance NRS' national impact in crisis intervention for youth and families. In terms of evidence-based programming, this funding will also enable NRS to conduct a study and evaluate efforts in the area of reconnecting runaway youth with their families.

DATES: September 30, 2011-April 30, 2012.

FOR FURTHER INFORMATION CONTACT: Curtis O. Porter, Director, Division of Youth Services, Family and Youth Services Bureau, 1250 Maryland Avenue SW., Suite 800, Washington, DC 20024, Phone: (202) 205-8102.

Dated: October 13, 2011.
Bryan Samuels,
Commissioner, Administration on Children, Youth and Families.

[FR Doc. 2011-28036 Filed 10-28-11; 8:45 am]

BILLING CODE 4182-04-P